DEPARTMENT OF ENERGY

Federal Energy Regulatory Commission

[Docket No. CP02-434-000]

ANR Pipeline Company; Notice of Intent To Prepare an Environmental Assessment for the Proposed WESTLEG Project and Request for Comments on Environmental Issues

September 23, 2002.

The staff of the Federal Energy Regulatory Commission (FERC or Commission) will prepare an environmental assessment (EA) that will discuss the environmental impacts of the WestLeg Project involving construction and operation of facilities by ANR Pipeline Company (ANR) in McHenry County, Illinois and Walworth and Rock Counties, Wisconsin.¹ These facilities would consist of about 32.8 miles of replacement pipeline and new pipeline loop, as described below. This EA will be used by the Commission in its decision-making process to determine whether the project is in the public convenience and necessity.

¹ ANR's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice ANR provided to landowners. This fact sheet addresses a number of typically asked questions, including the use of eminent domain and how to participate in the Commission's proceedings. It is available for viewing on the FERC Internet Web site (http://www.ferc.gov).

Summary of the Proposed Project

The proposed facilities would provide total mainline capacity of 220,000 dekatherms/day to meet local distribution company demand growth in Rock and Dane Counties, Wisconsin, and to serve existing customer needs in the general Janesville, Wisconsin area.

ANR requests authorization to construct 26.3 miles of 30-inch-diameter pipeline loop through McHenry County, Illinois and Walworth and to Rock Counties, Wisconsin. ANR also proposes to abandon by removal two small diameter (4 and 6 inches) lateral pipelines and replace them with a new 20-inch-diameter lateral. This lateral would extend for about 6.5 miles in Rock County.

One new meter station would be required, adjacent to an existing metering facility. In addition, ANR would upgrade a second meter station and recalibrate a third. One new mainline valve would be installed and six others modified.

The location of the project facilities is shown in appendix 1.²

² The appendices referenced in this notice are not being printed in the Federal Register. Copies are available on the Commission's Web site (http://www.ferc.gov) at the “FERRIS” link or from the Commission's Public Reference and Files Maintenance Branch, 888 First Street, NE; Washington, DC 20426, or call (202) 502-8371. For instructions on connecting to FERRIS refer to the last page of this notice. Copies of the appendices were sent to all those receiving this notice in the mail.

Land Requirements for Construction

Construction of the proposed facilities would require about 517 acres of land, including construction right-of-way, temporary extra work spaces, pipe storage and contractor yards, and access roads. Following construction, about 195 acres would be used for pipeline operation. Because this project consists of pipeline looping, replacement, and meter station expansion/modification within or adjacent to existing right-of-way, only about 12 acres of new permanent right-of-way would be required.

Over 90 percent of the land crossed by the facilities would be agricultural land. Other land uses that would be crossed include forested land and open land.

The EA Process

The National Environmental Policy Act (NEPA) requires the Commission to take into account the environmental impacts that could result from an action whenever it considers the issuance of a Certificate of Public Convenience and Necessity. NEPA also requires us ³ to discover and address concerns the public may have about proposals. This process is referred to as “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We,” “us,” and “our” refer to the environmental staff of the Office of Energy Projects (OEP).

The EA will discuss impacts that could occur as a result of the construction and operation of the proposed project under these general headings:

Geology and soils

Water resources, fisheries, and wetlands

Vegetation and wildlife

Cultural resources

Land use

Endangered and threatened species

Air quality and noise

Public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commissions official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by ANR. This preliminary list of issues may be changed based on your comments and our analysis.

Crossings of high value surface waterbodies, including those that contain sensitive species.

Permanent conversion of 0.32 acre of forested wetland to new right-of-way.

Crossing adjacent to or through the Alden Sedge Meadow Natural Area, a Wisconsin Department of Natural Resources (WDNR) public hunting area, and the WDNR Turtle Creek Wildlife Area (which contains federally and state-listed plants).

Also, we have made a preliminary decision to not address the impacts of nonjurisdictional facilities. We will briefly describe their location and status in the EA.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

Send an original and two copies of your letter to: Magalie R. Salas, Secretary, Federal Energy Regulatory Commission, 888 First St. NE.; Room 1A,Washington, DC 20426.

Label one copy of the comments for the attention of Gas Branch 1.

Reference Docket No. CP02-434-000.

Mail your comments so that they will be received in Washington, DC on or before October 28, 2002.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at (202) 502-8222, TTY (202) 502-8659. The FERRIS link on the FERC Internet Web site also provides access to the texts of formal documents issued by the Commission, such as orders, notices, and rulemakings.

Linwood A. Watson, Jr.,
Deputy Secretary.

[FR Doc. 02-24691 Filed 9-27-02; 8:45 am]

BILLING CODE 6717-01-P